DEPARTMENT OF AGRICULTURE

Forest Service

Bend/Ft. Rock Ranger District; Deschutes National Forest; Oregon; EXF Thinning, Fuels Reduction, and Research Project EIS

AGENCY: Forest Service, USDA.

ACTION: Notice of intent to prepare an environmental impact statement.

SUMMARY: The USDA, Forest Service, will prepare an environmental impact statement (ETS) on a proposed action to address forest health and hazardous fuels concerns as well as facilitating research within the 3,535-acre planning area known as the Lookout Mountain Unit of the Pringle Falls Experimental Forest. The planning area is located about 30 miles southwest of Bend, Oregon; it is located in Township 20 South, Range 9 East, and Township 21 South, Range 9 East. The alternatives will include the proposed action, no action, and additional alternatives that respond to issues generated through the scoping process. The agency will give notice of the full environmental analysis and decision making process so interested and affected people may participate and contribute to the final decision.

DATES: Comments concerning the scope of the analysis must be received by 30 days following the date that this notice appears in the Federal Register.

ADDRESSES: Send written comments to Phil Cruz, District Ranger, Bend/Ft. Rock Ranger District, 1230 NE 3rd St., Suite A-262, Bend, OR 97701.

FOR FURTHER INFORMATION CONTACT: Beth Peer, Environmental Coordinator, Bend/Ft. Rock Ranger District, 1230 NE 3 St., Suite A-262, Bend, Oregon, 97701, phone (541) 383-4769. E-mail bpeer@fs.fed.us.

Responsible Official. The responsible official will be John Allen, Forest Supervisor, Deschutes National Forest, P.O. Box 1645 Hwy 20 East, Bend, OR 97701.

SUPPLEMENTARY INFORMATION: Purpose and Need. Forest and scientific studies being conducted in the experimental forest are threatened by wildfire and forest health problems. This important site could be lost if stand densities are not reduced.

The proposed action is needed to reduce stand density to lower susceptibility to catastrophic loss to insects, disease, or fire, as well as to protect the long-term studies and future research opportunities represented by the residual stand and create new stand structures as a requirement for the new studies. Treatment is needed to:

• Reduce stand density and ground fuels in a buffer surrounding the Levels-of Growing-Stock Study and surrounding the Ponderosa Pine-Grand Fir Spacing Study to prevent loss from insects and wildfire.

• Reduce stand density and ground fuels in stands belonging to ponderosa pine and mixed conifer plant associations dominated by ponderosa pine to maintain high growth rates and reduce susceptibility to insect infestation.

• Reduce stand density and ground fuels in mixed conifer stands that include mountain hemlock to reduce the risk of wildfire moving downslope into ponderosa pine stands.

• Provide operational scale research opportunities through a series of thinning and fuel reduction treatments applied across the landscape that facilitate studies of the interaction of climate change and vegetation dynamics, fire ecology of giant chinquapin, processes for converting even-aged stands to uneven-aged stands, and the effect of stand manipulation on wind patterns and wind residual tree blowdown.

• Protect and enhance future research opportunities.

The proposed activities provide a platform for a suite of new studies that address the Pacific Northwest (PNW) Research Station's goals for climate change and vegetation dynamics research. Scientists at the PNW Research Station have identified numerous research goals with this proposal including:

• Develop and demonstrate a suite of treatments that accelerate the development of large trees while reintroducing natural disturbance processes that provide greater ecosystem resiliency.

• Evaluate the influence of climate change on vegetation dynamics and forest structure. Develop and demonstrate a process for converting even-aged stands to uneven-aged stands.

• Protect ongoing research and provide greater opportunities for future research.

• Develop and demonstrate linkages between mid-scale (multiple watersheds) and project analyses.

• Refine and demonstrate a burn probability and fire risk analysis using a fire modeling/actuarial risk approach.

• Expand the current use of the west-wide pine beetle model to incorporate western, mountain, and engraver beetles, and develop a means to incorporate red turpentine beetle.

• Evaluate the use of biological control agents to manipulate aboveground biomass of the dominant shrub, snowbrush, and thereby encourage enhanced herbivory and defoliation to create more predictable burning conditions and potentially greater natural regeneration of ponderosa pine.

• Create an opportunity to locate and showcase a large body of work for the Western Wildlands Environmental Threat Assessment Center.

• Refine current understanding of fire ecology for prominent plant species such as giant chinquapin.

Proposed Action. The Forest Service proposes to implement activities across approximately 2,603 acres within four different treatment blocks. Treatments will reduce stand densities by thinning, mow shrubs, and underburn. The blocks delineate areas of homogonous elevation and aspect, and incorporate roads for boundaries where appropriate. Four levels of treatment are proposed, in addition to control (untreated) units. These treatments are randomly assigned to one unit within each block.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by October 2008. The EPA will publish a Notice of Availability (NOA) of the draft EIS in the Federal Register. The final EIS is scheduled to be available January 2009.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)1. Also, environmental objections that could be raised at the draft EIS stage but that are not raised until after completion of the final EIS may be waived or dismissed by the courts [City of Angoon v. Harris, 490 F. Supp. 1334, 1338 (E.D. Wis. 1980)1. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest.

The responsible official will decide where, and whether or not to thin stands, and apply natural fuels treatments. The responsible official will also decide how to mitigate impacts of these actions and will determine when and how monitoring of effects will take place.

The EXF Project decision and the reasons for the decision will be documented in the record of decision. That decision will be subject to Forest Service Appeal Regulations (35 CFR Part 215).

Phil Cruz,
Bend/Ft. Rock District Ranger.

[FR Doc. E8-7692 Filed 4-10-08; 8:45 am]

BILLING CODE 3410-11-P